DEPARTMENT OF LABOR

Employee Benefits Security Administration

181st Meeting of the Advisory Council on Employee Welfare and Pension Benefit Plans Notice of Meeting

Pursuant to the authority contained in section 512 of the Employee Retirement Income Security Act of 1974 (ERISA), 29 U.S.C. 1142, the 181st meeting of the Advisory Council on Employee Welfare and Pension Benefit Plans (also known as the ERISA Advisory Council) will be held on June 7-9, 2016.

The three-day meeting will take place at the U.S. Department of Labor, 200 Constitution Avenue NW., Washington, DC 20210 in C5320 Room 6. The meeting will run from 9:00 a.m. to approximately 5:30 p.m. on June 7-8 and from 8:30 a.m. to 3:00 p.m. on June 9, with a one hour break for lunch each day. The purpose of the open meeting is for Advisory Council members to hear testimony from invited witnesses and to receive an update from the Employee Benefits Security Administration (EBSA). The EBSA update is scheduled for the morning of June 9, subject to change.

The Advisory Council will study the following topics: (1) Cybersecurity Considerations for Benefit Plans, on June 7 and (2) Participant Plan Transfers and Account Consolidation for the Advancement of Lifetime Plan Participation, on June 8. The schedule is subject to change. The Council will discuss both topics on June 9. Descriptions of these topics are available on the Advisory Council page of the EBSA Web site, at www.dol.gov/ebsa/aboutebsa/erisaadvisorycouncil.html.

Organizations or members of the public wishing to submit a written statement may do so by submitting 35 copies on or before May 31, 2016 to Larry Good, Executive Secretary, ERISA Advisory Council, U.S. Department of Labor, Suite N-5623, 200 Constitution Avenue NW., Washington, DC 20210. Statements also may be submitted as email attachments in word processing or pdf format transmitted to good.larry@dol.gov. It is requested that statements not be included in the body of the email. Statements deemed relevant by the Advisory Council and received on or before May 31 will be included in the record of the meeting and made available through the EBSA Public Disclosure Room, along with witness statements. Do not include any personally identifiable information (such as name, address, or other contact information) or confidential business information that you do not want publicly disclosed. Written statements submitted by invited witnesses will be posted on the Advisory Council page of the EBSA Web site, without change, and can be retrieved by most Internet search engines.

Individuals or representatives of organizations wishing to address the Advisory Council should forward their requests to the Executive Secretary or telephone (202) 693-8668. Oral presentations will be limited to 10 minutes, time permitting, but an extended statement may be submitted for the record. Individuals with disabilities who need special accommodations should contact the Executive Secretary by May 31.

Signed at Washington, DC, this 9th day of May, 2016.
Judy Mares,
Deputy Assistant Secretary, Employee Benefits Security Administration.

[FR Doc. 2016-11612 Filed 5-16-16; 8:45 am]

BILLING CODE 4510-29-P